COMMISSION ON CIVIL RIGHTS

Amended Notice of Public Meeting of the Delaware Advisory Committee

Notice is hereby given, pursuant to the provisions of the rules and regulations of the U.S. Commission on Civil Rights, that a meeting of the Delaware Advisory Committee to the Commission which was to have convened at 2 p.m. and adjourned at 6 p.m. on August 25, 2000, has a new time and new location. The Committee will convene at 12:30 p.m. and adjourn at 4 p.m. on August 25, 2000, at the City Council Chambers, City of Newark Municipal Building, 220 Elkton Road, Newark, Delaware, 19715-0390. The notice was originally published in the Federal Register on Thursday, July 27, 2000, FR Doc. 00-18984, Vol. 65, No. 145, Page 45146.

Persons desiring additional information, or planning a presentation to the Committee, should contact Edward Darden, Civil Rights Analyst of the Eastern Regional Office, 202-376-7533 (TDD 202-376-8116). Hearing-impaired persons who will attend the meeting and require the services of a sign language interpreter should contact the Regional Office at least ten (10) working days before the scheduled date of the meeting.

The meeting will be conducted pursuant to the provisions of the rules and regulations of the Commission.

Dated at Washington, DC, August 8, 2000.
Lisa M. Kelly,
Special Assistant to the Staff Director, Regional Programs Coordination Unit.

[FR Doc. 00-20563 Filed 8-9-00; 4:16 pm]

BILLING CODE 6335-01-P